DEPARTMENT OF LABOR

Office of the Secretary

Submission for OMB Review: Comment Request

March 21, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Mine Safety and Health Administration (MSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of currently approved collection.

Title: Roof Control Plans.

OMB Number: 1219-0004.

Frequency: On occasion.

Type of Response: Recordkeeping and Reporting.

Affected Public: Business or other for-profit.

Number of Respondents: 627.

Number of Annual Responses: 2,465.

Average Response Time: 24 hours for new plans; 5 hours to revise a plan; and 5 minutes to plot each unplanned roof fall, rib fall, and coal rock burst on a mine map when such incidents meet the criteria specified in 30 CFR 75.223(b).

Total Annual Burden Hours: 6,919.

Total Annualized Capital/startup Costs: $0.

Total Annual Costs (Operating/maintaining Systems or Purchasing Services): $4,630.

Description: Section 302(a) of the Federal Mine Safety and Health Act of 1977 (Mine Act) 30 U.S.C. 846, requires that a roof control plan and revisions thereof suitable to the roof conditions and mining system of each coal mine be first approved by the Secretary of Labor (Secretary) before implementation by the operator. The plan must show the type of support and spacing approved by the Secretary, and the plan must be reviewed at least every six months by the Secretary.

Under 30 CFR 75.220 each mine operator shall develop and follow a roof control plan, approved by the District Manager, that is suitable to the prevailing geological conditions, and the mining system to be used at the mine. Additional measures shall be taken to protect persons if unusual hazards are encountered.

Under 30 CFR 75.221, the information required to be submitted and approved in the roof control plan includes the following: (1) The name and address of the company; (2) the name, address, mine identification number and location of the mine; (3) the name and title of the company official responsible for the plan; (4) a description of the mine strata; (5) a description and drawings of the sequence of installation and spacing of supports for each method of mining used; (6) the maximum distance that an ATRS system is to be set beyond the last row of permanent support (if appropriate); (7) specifications and installation procedures for liners or arches (if appropriate); (8) drawings indicating the planned width of openings, size of pillars, method of pillar recovery, and the sequence of mining pillars; (9) a list of all support materials required to be used in the roof, face and rib control system; (10) the intervals at which test holds will be drilled (if appropriate); and (11) a description of the methods to be used for the protection of persons. Under 30 CFR 75.215, the roof control plan for each longwall mining section is required to specify the methods that will be used to maintain a safe travelway out of the section through the tailgate side of the longwall and the procedures that will be followed if a ground failure prevents travel out of the section through the tailgate side of the longwall.

Roof control plans are evaluated by Mine Safety and Health Administration (MSHA) specialists on the basis of the criteria set forth in 30 CFR 75.222. The District Manager may require additional measures in plans and may approve roof control plans that do not conform to the applicable criteria in this section, provided that effective control of the roof, face, and ribs can be maintained.

Under 30 CFR 75.223, a mine operator is required to propose revisions to the roof control plan when conditions indicate that the plan is not suitable for controlling the roof, face, ribs, or coal or rock bursts, or when accident and injury experience at the mine indicates the plan is inadequate. Mine operators are also required to plot on a mine map each unplanned roof or rib fall and coal or rock burst that occurs in the active workings when certain criteria are met. The regulation also requires MSHA to review the plan every 6 months.

Roof Control plans provide the means to instruct miners, who install roof supports, in the proper use and placement of roof supports. The plan also provides a reference for mine supervisors to ensure that the mine is in compliance with the MSHA regulations relating to roof control. Roof control plans are evaluated by MSHA personnel to assure that mine operators have complied with the regulatory provisions outlined in 30 CFR 75.202 through 75.214. MSHA inspectors also refer to the plans when they are conducting safety and health inspections at the mines. Approved roof control plans from the different MSHA coal mine safety and health districts are reviewed by MSHA roof control specialists to determine compliance with the regulations and to evaluate the roof and rib support methods used to provide a safe working environment.

Ira L. Mills,
Departmental Clearance Officer.

[FR Doc. E6-4275 Filed 3-23-06; 8:45 am]

BILLING CODE 4510-43-P